DEPARTMENT OF COMMERCE

National Oceanic and Atmospheric Administration

RIN 0648-XG943

Caribbean Fishery Management Council; Public Meeting

AGENCY: National Marine Fisheries Service (NMFS), National Oceanic and Atmospheric Administration (NOAA), Commerce.

ACTION: Notice of a public meeting.

SUMMARY: The Caribbean Fishery Management Council will hold its 165th meeting in April to discuss the items contained in the agenda in the SUPPLEMENTARY INFORMATION.

DATES: The meetings will be held on April 23-24, 2019, from 9 a.m. to 5 p.m.

ADDRESSES: The meetings will be held at the Courtyard Marriott Isla Verde Beach Resort, 7012 Boca de Cangrejos Avenue, Isla Verde, Carolina, Puerto Rico 00907.

FOR FURTHER INFORMATION CONTACT: Caribbean Fishery Management Council, 270 Muñoz Rivera Avenue, Suite 401, San Juan, Puerto Rico 00918-1903; telephone: (787) 766-5926.

SUPPLEMENTARY INFORMATION:

April 23, 2019, 9 a.m.-5 p.m.

○ Call to Order

○ Adoption of Agenda

○ Consideration of 164th Council Meeting Verbatim Transcriptions

○ Executive Director's Report

○ Island-Based Fishery Management Plans

—Review and Revise, as appropriate, Combined Draft Fishery Management Plans/NEPA Documents for Each Island Group

—Public Hearings Report and Discussion of Comments Received

○ Final Action to Submit the Three Island-Based Fishery Management Plans to the Secretary of Commerce

○ Reports from the DAPs and SSC on “Conceptual Models in an Ecosystem-Based Fishery Management Framework” Meetings

—Council Next Steps

○ SSC Chair Report

○ Project Events Update—Graciela Garćia-Moliner

○ Saltonstall-Kennedy (S-K) Research Program: Background, Process and Transparency—Dan Namur

PUBLIC COMMENT PERIOD (5-minute presentations)

April 23, 2019, 5:15 p.m.-6 p.m.

○ Administrative Issues

○ Closed Session

April 23, 2019, 7:30 p.m.-9 p.m.

○ Saltonstall-Kennedy (SK) Research Program Feedback Session with CFMC Members

April 24, 2019, 9 a.m.-5 p.m.

○ Stony Coral Tissue Loss Disease Outbreak: Current Status of Disease and Management

○ Stock Assessment Prioritization—Tauna Rankin

○ Outreach and Education Report—Alida Ortiz

○ USVI Recreational Fishery website Project Update

○ USVI Control Date Status

○ Enforcement Issues:

—Puerto Rico-DNER

—USVI-DPNR

—U.S. Coast Guard

—NMFS/NOAA

○ Meetings Attended by Council Members and Staff

○ Other Business

—Update on Spiny Lobster Data Collection by Fishers

PUBLIC COMMENT PERIOD (5-minute presentations)

○ Next Meeting

The order of business may be adjusted as necessary to accommodate the completion of agenda items. The meeting will begin on April 23, 2019 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Dated: April 2, 2019.
Rey Israel Marquez,
Acting Deputy Director, Office of Sustainable Fisheries, National Marine Fisheries Service.

[FR Doc. 2019-06804 Filed 4-5-19; 8:45 am]

BILLING CODE 3510-22-P